DEPARTMENT OF AGRICULTURE

Natural Resources Conservation Service

Commodity Credit Corporation

7 CFR Part 1470

[Docket No. NRCS-2014-0008]

RIN 0578-AA63

Conservation Stewardship Program (CSP) Interim Rule

AGENCY: Natural Resources Conservation Service (NRCS) and the Commodity Credit Corporation (CCC), United States Department of Agriculture.

ACTION: Interim final rule; extension of comment period.

SUMMARY: NRCS and CCC published an interim final rule amending the existing regulation for the Conservation Stewardship Program with request for comment, with a comment period ending January 5, 2015. This document extends the comment period.

DATES: The comment period for the interim final rule for CSP (79 FR 65836, Nov. 5, 2014) is hereby extended until January 20, 2015.

ADDRESSES: You may submit comments (identified by Docket No. NRCS-2014-0008) using one of the following methods:

• Federal eRulemaking Portal: http://www.regulations.gov. Follow the instructions for submitting comments for Docket No. NRCS-2014-0008.

• U.S. mail or hand delivery: Public Comments Processing, Attn: Docket No. NRCS-2014-0008, Regulatory and Agency Policy Team, Strategic Planning and Accountability, U.S. Department of Agriculture, NRCS, 5601 Sunnyside Avenue, Building 1-1112D, Beltsville, Maryland 20705.

NRCS will post all comments on http://www.regulations.gov. If your comment includes your address, telephone number, email address, or other personal identifying information, please be aware that your entire comment, including this personal information, will be made publicly available. Do not include personal information with your comment submission if you do not want for it to be made public.

FOR FURTHER INFORMATION CONTACT: Director, Financial Assistance Programs Division, U.S. Department of Agriculture, NRCS, P.O. Box 2890, Washington, DC 20013-2890. Phone: (202) 720-1845. Fax: (202) 720-4265.

SUPPLEMENTARY INFORMATION: The Food, Conservation, and Energy Act of 2008 Act (2008 Act) amended the Food Security Act of 1985 (1985 Act) to establish the Conservation Stewardship Program (CSP) and authorize the program in FY 2009 through FY 2012. The Agricultural Appropriations Act of 2012 extended the program through FY 2014. The Agriculture Act of 2014 (the 2014 Act) reauthorizes and revises CSP, and extends the program through FY 2018. The purpose of CSP is to encourage producers to address priority resource concerns and improve and conserve the quality and condition of the natural resources in a comprehensive manner by:

(1) Undertaking additional conservation activities; and

(2) improving, maintaining, and managing existing conservation activities. The Secretary of Agriculture delegated authority to the Chief, NRCS, to administer CSP.

This action extends the comment period on the Interim Rule published on November 5, 2014, to ensure that the public has sufficient time to comment on the Interim Rule.

Signed this 15th day of December, 2014, in Washington, DC.
Jason A. Weller,
Vice President, Commodity Credit Corporation and Chief, Natural Resources Conservation Service.

[FR Doc. 2014-29982 Filed 12-22-14; 8:45 am]

BILLING CODE 3410-16-P